DEPARTMENT OF ENERGY

Federal Energy Regulatory Commission

Combined Notice of Filings #2

March 11, 2009.

Take notice that the Commission received the following electric rate filings:

Docket Numbers: ER98-4421-012; ER96-2350-029; ER01-570-012; ER99-3677-011; ER99-791-010; ER99-806-009.

Applicants: Consumers Energy Company; CMS Energy Resource Management Company; Dearborn Industrial Generation, L.L.C.; CMS Generation Michigan Power, L.L.C.; Grayling Generation Station Limited Partnership; Genesee Power Station Limited Partnership.

Description: Notice of Non-Material Change in Status of Consumers Energy Company.

Filed Date: 03/10/2009.

Accession Number: 20090310-5152.

Comment Date: 5 p.m. Eastern Time on Tuesday, March 31, 2009.

Docket Numbers: ER00-1026-018; ER00-33-013; ER01-1315-007; ER01-2401-013; ER01-751-013; ER05-442-005; ER09-38-001; ER97-2904-009; ER98-2184-016; ER98-2185-016; ER98-2186-017; ER99-1228-008; ER99-1761-007; ER99-1773-011; ER99-2284-011.

Applicants: Indianapolis Power & Light Company, AEE 2 LLC, AES Alamitos, LLC, AES CREATIVE RESOURCES LP, AES Eastern Energy, LP, AES Energy Storage, LLC, AES Huntington Beach, L.L.C., AES Ironwood LLC, AES RED OAK LLC, AES Redondo Beach, L.L.C., AES Placerita Inc., Condon Wind Power, LLC, Lake Benton Power Partners LLC, Mountain View Power Partners, LLC, Storm Lake Power Partners II LLC.

Description: Amendment to its Triennial Market Power Update filing and on 3/9/09 filed an Errata to Amendment to Compliance Filing of Indianapolis Power & Light Company, et. al.

Filed Date: 02/26/09; 03/09/2009.

Accession Number: 20090302-0303; 20090309-5142.

Comment Date: 5 p.m. Eastern Time on Monday, March 30, 2009.

Docket Numbers: ER00-2398-009.

Applicants: Baconton Power LLC.

Description: Baconton Power, LLC submits an updated market power analysis for the Southeast Region and further revisions to its market based sales tariff to comply with Order 697.

Filed Date: 03/04/2009.

Accession Number: 20090306-0006.

Comment Date: 5 p.m. Eastern Time on Wednesday, March 25, 2009.

Docket Numbers: ER03-534-009.

Applicants: Ingenco Wholesale Power, LLC.

Description: Supplement to Application for Finding of Category 1 Seller Status and Filing of Revised Market-Based Rate Tariff of Ingenco Wholesale Power, LLC.

Filed Date: 03/02/2009.

Accession Number: 20090302-5190.

Comment Date: 5 p.m. Eastern Time on Monday, March 23, 2009.

Docket Numbers: ER06-456-019; ER06-1271-014; ER06-880-014; ER06-954-015; ER07-424-010.

Applicants: PJM Interconnection L.L.C.

Description: PJM Interconnection, LLC submits compliance filing, one day out of time.

Filed Date: 03/02/2009.

Accession Number: 20090305-0005.

Comment Date: 5 p.m. Eastern Time on Monday, March 23, 2009.

Docket Numbers: ER07-189-005; ER07-190-005; ER07-191-005; ER07-192-003.

Applicants: Duke Energy Indiana, Inc.; Duke Energy Kentucky, Inc.; Duke Energy Ohio, Inc.; Duke Energy Business Services, Inc., Duke Energy Shared Services, Inc.

Description: Duke Energy MBR Companies submits Substitute Sheet 2 et al. to FERC Electric Tariff, Second Revised Volume 1.

Filed Date: 03/02/2009.

Accession Number: 20090305-0053.

Comment Date: 5 p.m. Eastern Time on Monday, March 23, 2009.

Docket Numbers: ER07-1332-003.

Applicants: Smoky Hills Wind Farm, LLC.

Description: Supplemental Information to April 2008 Change in Status Filing and Request for Shortened Notice Period of Smoky Hills Wind Farm, LLC.

Filed Date: 02/20/2009.

Accession Number: 20090220-5146.

Comment Date: 5 p.m. Eastern Time on Friday, March 13, 2009.

Docket Numbers: ER08-444-003; ER06-1143-003; ER98-1992-005.

Applicants: NSTAR Electric Company; MATEP LLC; Medical Area Total Energy Plant Inc.

Description: NSTAR Electric Co et al. submits First Revised Sheet No. 3 et al. to FERC Electric Tariff, Second Revised Volume No. 10.

Filed Date: 03/05/2009.

Accession Number: 20090305-0178.

Comment Date: 5 p.m. Eastern Time on Thursday, March 26, 2009.

Docket Numbers: ER08-1051-002.

Applicants: NSTAR Electric Company.

Description: NSTAR Electric Company submits updated Annual Informational filing containing the true up billings under Schedule 21-NSTAR to Schedule II of the ISO New England Inc Transmission, Markets and Services Tariff, FERC Electric Tariff No 3.

Filed Date: 03/03/2009.

Accession Number: 20090306-0071.

Comment Date: 5 p.m. Eastern Time on Tuesday, March 24, 2009.

Docket Numbers: ER08-1335-003.

Applicants: Southern Company Services, Inc.

Description: Southern Companies submits an errata to Fourth Substitute Fourth Revised Service Agreement 391 to FERC Electric Tariff, Fourth Revised Volume 5 in compliance with the Commission's letter order issued 1/9/09.

Filed Date: 03/03/2009.

Accession Number: 20090306-0008.

Comment Date: 5 p.m. Eastern Time on Tuesday, March 24, 2009.

Docket Numbers: ER08-1410-002.

Applicants: PacifiCorp.

Description: PacifiCorp submits Second Revised Rate Schedule FERC 262 filed on 12/15/08 in compliance with Order 614.

Filed Date: 03/02/2009.

Accession Number: 20090303-0234.

Comment Date: 5 p.m. Eastern Time on Monday, March 23, 2009.

Docket Numbers: ER09-368-001.

Applicants: PJM Interconnection L.L.C.

Description: PJM Interconnection, LLC submits filing to comply with directives in the FERC 1/30/09 order on tariff revisions in the proceeding.

Filed Date: 03/02/2009.

Accession Number: 20090305-0006.

Comment Date: 5 p.m. Eastern Time on Monday, March 23, 2009.

Docket Numbers: ER09-404-001.

Applicants: Langdon Wind, LLC.

Description: Langdon Wind, LLC submits Compliance Filing of Jurisdictional Agreement.

Filed Date: 03/04/2009.

Accession Number: 20090305-0177.

Comment Date: 5 p.m. Eastern Time on Wednesday, March 25, 2009.

Docket Numbers: ER09-538-001.

Applicants: Granite State Electric Company.

Description: Granite State Electric Company submits revised tariff sheets in compliance with Commission Staff's.

Filed Date: 03/02/2009.

Accession Number: 20090305-0004.

Comment Date: 5 p.m. Eastern Time on Monday, March 23, 2009.

Docket Numbers: ER09-726-001.

Applicants: Vision Power, LLC.

Description: Vision Power, LLC submits petition for acceptance of initial rate schedule, waivers and blanket authorization et al.

Filed Date: 03/04/2009.

Accession Number: 20090305-0176.

Comment Date: 5 p.m. Eastern Time on Wednesday, March 25, 2009.

Docket Numbers: ER09-732-001.

Applicants: Windhorse Energy, Inc.

Description: Windhorse Energy, Inc submits amended Public Petition for Acceptance of Initial Tariff Waivers and Blanket Authority, and one portion of the Petition for Acceptance of Initial Tariff Waivers and Blanket Authority etc.

Filed Date: 03/05/2009.

Accession Number: 20090306-0075.

Comment Date: 5 p.m. Eastern Time on Thursday, March 26, 2009.

Docket Numbers: ER09-746-001.

Applicants: Optim Energy Marketing, LLC.

Description: Optim Energy Marketing, LLC submits revised Exhibit A et al to FERC Electric Tariff, Original Volume 1.

Filed Date: 03/02/2009.

Accession Number: 20090304-0149.

Comment Date: 5 p.m. Eastern Time on Monday, March 23, 2009.

Docket Numbers: ER09-750-000.

Applicants: Windy Flats Partners, LLC.

Description: Amendment to Application for Order Accepting Market Based Rate Tariff of Windy Flats Partners, LLC.

Filed Date: 03/10/2009.

Accession Number: 20090310-5154.

Comment Date: 5 p.m. Eastern Time on Tuesday, March 31, 2009.

Docket Numbers: ER09-798-000.

Applicants: Elm Road Services LLC.

Description: Elm Road Services, LLC submits Power Agreement Providing for Sales of Test Power between ERS and Wisconsin Electric Power Company.

Filed Date: 03/05/2009.

Accession Number: 20090306-0074.

Comment Date: 5 p.m. Eastern Time on Thursday, March 26, 2009.

Docket Numbers: ER09-799-000.

Applicants: Sempra Energy Trading, LLC.

Description: Sempra Energy Trading LLC submits itsFERC Electric tariff, Original Volume 2 under which specifies its revenue requirement for the sale of cost-based Reactive Supply and Voltage Control from Generation Sources Service etc.

Filed Date: 03/05/2009.

Accession Number: 20090306-0073.

Comment Date: 5 p.m. Eastern Time on Thursday, March 26, 2009.

Docket Numbers: ER09-800-000.

Applicants: Panda Brandywine L.P.

Description: Panda-Brandywine, LP submits its proposed FERC Electric Tariff, Original Volume 2 and supporting cost data.

Filed Date: 03/05/2009.

Accession Number: 20090309-0006.

Comment Date: 5 p.m. Eastern Time on Thursday, March 26, 2009.

Docket Numbers: ER09-801-000.

Applicants: Southwest Power Pool, Inc.

Description: Southwest Power Pool, Inc submits revisions to Attachment AD of its Open Access Transmission Tariff, to be effective 2/1/09.

Filed Date: 03/05/2009.

Accession Number: 20090309-0007.

Comment Date: 5 p.m. Eastern Time on Thursday, March 26, 2009.

Docket Numbers: ER09-802-000.

Applicants: New York Independent System Operator, Inc.

Description: New York Independent System Operator, Inc submits proposed revisions to its Market Administration and Control Area Services Tariff.

Filed Date: 03/05/2009.

Accession Number: 20090309-0008.

Comment Date: 5 p.m. Eastern Time on Thursday, March 26, 2009.

Docket Numbers: ER09-803-000.

Applicants: New York Independent System Operator, Inc.

Description: New York Independent System Operator, Inc submits proposed revisions to its Market Administration and Control Area Services Tariff.

Filed Date: 03/05/2009.

Accession Number: 20090309-0009.

Comment Date: 5 p.m. Eastern Time on Thursday, March 26, 2009.

Docket Numbers: ER09-806-000.

Applicants: Northeast Utilities Service Company.

Description: Northeast Utilities Service Company et al. submit Amendment No 2 to Revised Standard Large Generator Interconnection Agreement.

Filed Date: 03/02/2009.

Accession Number: 20090306-0072.

Comment Date: 5 p.m. Eastern Time on Monday, March 23, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-6950 Filed 3-27-09; 8:45 am]

BILLING CODE 6717-01-P